DEPARTMENT OF LABOR

Employment and Training Administration

[TA-W-65,082]

Panel Crafters, Inc., White City, OR; Notice of Termination of Investigation

Pursuant to Section 221 of the Trade Act of 1974, as amended, an investigation was initiated on February 3, 2009 in response to a petition filed by a company official on behalf of workers of Panel Crafters, Inc., White City, Oregon.

The petitioners have requested that the petition be withdrawn. Consequently, the investigation has been terminated.

Signed at Washington, DC, this 19th day of March 2009.
Linda G. Poole,
Certifying Officer, Division of Trade Adjustment Assistance.

[FR Doc. E9-7741 Filed 4-6-09; 8:45 am]

BILLING CODE 4510-FN-P